DEPARTMENT OF ENERGY

Federal Energy Regulatory Commission

[Project No. 13860-001]

Jones Canyon Hydro, LLC; Notice of Application for Amendment of Preliminary Permit Accepted for Filing and Soliciting Comments, Motions To Intervene, and Protests

On May 29, 2012, Jones Canyon Hydro, LLC filed an amendment to their preliminary permit issued March 28, 2011 for the Jones Canyon Pumped Storage Project. The proposed project would be a closed-loop pumped storage project located near Grass Valley, in Sherman County, Oregon.

The applicant proposes to make the following changes to their issued permit: (1) Expand the project boundary to include a second canyon north of the project; (2) change the location of the proposed lower reservoir dam to north of the current location and include an additional canyon; (3) expand the lower reservoir from 68 surface acres to 98 surface acres at an elevation of 1,150 feet above mean sea level; (4) change the total installed capacity of the project from 400 megawatts (MW) to 500 MW; (5) change the length of the transmission line from 0.34 miles to 4.5 miles; (6) lengthen the conduit between the proposed reservoirs from 6,225 feet to 7,330 feet; and (7) change the name of the project from “Jones Canyon Pumped Storage Project” to “Oregon Winds Pumped Storage”.

FERC Contact: Jennifer Harper, 202-502-6136.

Deadline for filing comments or motions to intervene: 30 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426. More information about this project, including a copy of the application, can be viewed or printed on the “eLibrary” link of the Commission's Web site at http://www.ferc.gov/docs-filing/elibrary.asp. Enter the docket number (P-13860-001) in the docket number field to access the document. For assistance, contact FERC Online Support.

Dated: June 19, 2012.
Kimberly D. Bose,
Secretary.

[FR Doc. 2012-15483 Filed 6-25-12; 8:45 am]

BILLING CODE 6717-01-P